DEPARTMENT OF HEALTH AND HUMAN SERVICES

National Institutes of Health

Proposed Collection; Comment Request; A Prospective Study of Diet and Cancer in Members of the American Association of Retired Persons (AARP)

SUMMARY: In compliance with the requirements of section 3506(c)(2)(A) of the Paperwork Reduction Act of 1995, for public comment on proposed data collection projects, the National Cancer Institute (NCI), the National Institutes of Health (NIH) will publish periodic summaries of proposed projects to be submitted to the Office of Management and Budget (OMB) for review and approval.

Proposed Collection: Title: A Prospective Study of diet and Cancer in Members of the American Association of Retired Persons (AARP). Type of information request: Reinstatement, OMB No. 0925-0423, which expired on 09/30/98. Need and Use of Information Collection: This study is to examine prospectively the relation between diet and major cancers (especially those of the breast, large bowel, and prostrate) in population of early- to late-middle aged men and women in the United States. In order to minimize two problems that historically have plagued observational epidemiologic studies of diet and cancer—dietary measurement error and dietary homogeneity—this study is large and oversampled screenees within extreme categories of dietary intake. Understanding the relationship between diet and cancers of the breast, large bowel, and prostrate has critical implications for the American people. This uniquely designed study has a capacity greater than that of any previous study for demonstrating these important connections between dietary factors and major cancers. Frequency of Response: One-time study. Affected Public: Individuals or households. Type of Respondents: Male and Female AARP members aged 50-69 years. The total annual reporting burden is as follows: Estimated Number of Respondents: 291,900; Estimated Number of Responses per Respondent: 1; Average Burden Hours per Response: 0.5; and Estimated Total Annual Burden Hours Requested: 179, 636. There are no Capital Costs, Operating Costs, and/or Maintenance Costs to report.

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact Arthur Schatzkin, M.D., Dr.P.H., Cancer Prevention Studies Branch, Division of Cancer Prevention and Control, National Cancer Institute, Executive Plaza South, Suite 7040, Rockville, Maryland 28092, or call non-toll free (301) 594-2931, or E-mail your request, including your address to schatzka@mail.nih.gov.

Comments Due Date: Comments regarding this information collection are best assured of having their full effect if received on or before June 12, 2001.

Dated: April 6, 2001.
Reesa Nichols,
NCI Project Clearance Liaison.

[FR Doc. 01-9256 Filed 4-12-01; 8:45 am]

BILLING CODE 4140-01-M